NATIONAL CREDIT UNION ADMINISTRATION

Agency Information Collection Activities: Submission to OMB for Revision to a Currently Approved Information Collection; Comment Request

AGENCY: National Credit Union Administration (NCUA).

ACTION: Request for comment.

SUMMARY: The NCUA intends to submit the following information collection to the Office of Management and Budget (OMB) for review and clearance under the Paperwork Reduction Act of 1995 (Pub. L. 104-13, 44 U.S.C. Chapter 35). This information collection is published to obtain comments from the public. NCUA is proposing a data collection change to the credit union Profile as well as the 5300 Call Report. NCUA is proposing to add fields to the General, Information Systems and Technology, Regulatory, Disaster Recovery, Member Services and Grant sections of the Profile. This data will assist NCUA in monitoring and supervising credit unions. On the 5300 Call Report, NCUA is proposing to add fields to the Miscellaneous Loan Information, Additional Share Information, Miscellaneous, Delinquency, Loan Charge Off and Recoveries, Liquidity, Commitments and Sources, Purchased Credit Impaired Loans, and Supplemental Investment Information sections. The new data collection provides more detailed delinquent, charge off and recovery loan information. Additionally, these fields provide information for offsite monitoring of risks to the National Credit Union Share Insurance Fund.

DATES: Comments will be accepted until May 10, 2013.

ADDRESSES: Interested parties are invited to submit written comments to the NCUA Contact and the OMB Reviewer listed below:

NCUA Contact: Tracy Crews, National Credit Union Administration, 1775 Duke Street, Alexandria, Virginia 22314-3428, Fax No. 703-837-2861, Email: OCIOMail@ncua.gov.

OMB Contact: Office of Management and Budget, ATTN: Desk Officer for the National Credit Union Administration, Office of Information and Regulatory Affairs, Washington, DC 20503.

FOR FURTHER INFORMATION CONTACT: Requests for additional information, a copy of the information collection request, or a copy of submitted comments should be directed to Tracy Crews at the National Credit Union Administration, 1775 Duke Street, Alexandria, VA 22314-3428, or at (703) 518-6444.

SUPPLEMENTARY INFORMATION:

I. Abstract and Request for Comments

NCUA is amending the currently approved collection for 3133-0004. Two specific forms are used, NCUA Form 5300 and NCUA Profile Form 4501A, also known as the Call Report and Profile, respectively. Section 741.6 of the NCUA Rules and Regulations requires all federally insured credit unions to submit a Call Report quarterly. 12 CFR 741.6. The information enables the NCUA to monitor credit unions whose share accounts are insured by the National Credit Union Share Insurance Fund. NCUA uses the information collected from these Call Reports to fulfill its mission of supervising credit unions and the Federal Reserve Board uses it to monitor and control the nation's money supply and the system of financial institutions. Congress and various state legislatures use this information to monitor, regulate, and control credit unions and financial institutions. The changes made to the Profile and Call Report form for June 2013 will provide data to assist the National Credit Union Administration in assessing regulatory compliance and financial and operational risks. There is a decrease of 6,045 hours from the last submission (2012). The decrease is a result of an adjustment to the number of credit unions completing the Call Report from 7,093 to 6,864. This decline is from credit union mergers and liquidations.

The NCUA requests that you send your comments on this collection to the location listed in the addresses section. Your comments should address: (a) The necessity of the information collection for the proper performance of NCUA, including whether the information will have practical utility; (b) the accuracy of our estimate of the burden (hours and cost) of the collection of information, including the validity of the methodology and assumptions used; (c) ways we could enhance the quality, utility, and clarity of the information to be collected; and (d) ways we could minimize the burden of the collection of the information on the respondents such as through the use of automated collection techniques or other forms of information technology. It is NCUA's policy to make all comments available to the public for review.

II. Data

Proposal for the following collection of information:

OMB Number: 3133-0004.

Form Number: NCUA 5300.

Type of Review: Revision to the currently approved collection.

Title: Revisions to NCUA Call Reports.

Description: The financial and statistical information is essential to NCUA in carrying out its responsibility for the supervision of federally insured credit unions. The information also enables NCUA to monitor all federally insured credit unions whose share accounts are insured by the National Credit Union Share Insurance Fund (NCUSIF).

Respondents: All Credit Unions.

Estimated Number of Respondents/Recordkeepers: 6,864.

Estimated Burden Hours per Response: 6.6 hours.

Frequency of Response: Quarterly.

Estimated Total Annual Burden Hours: 181,210.

Estimated Total Annual Cost: $5,318,513.

By the National Credit Union Administration Board on February 28, 2013.
Mary Rupp,
Secretary of the Board.

[FR Doc. 2013-05553 Filed 3-8-13; 8:45 am]

BILLING CODE 7535-01-P